SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer at the following addresses:

(OMB) Office of Management and Budget, Attn: Desk Officer for SSA, New Executive Office Building, Room 10235, 725 17th St., NW., Washington, DC 20503.

(SSA) Social Security Administration, DCFAM, Attn: Reports Clearance Officer, 1300 Annex Bldg., 6401 Security Blvd., Baltimore, MD 21235.

I. The information collections listed below are pending at SSA and will be submitted to OMB within 60 days from the date of this notice. Therefore, your comments should be submitted to SSA within 60 days from the date of this publication. You can obtain copies of the collection instruments by calling the SSA Reports Clearance Officer at 410-965-0454, or by writing to the address listed above.

1. Application for Disability Insurance Benefits—0960-0060—20 CFR Subpart P—404.1501-1512 and Subpart D—404.315-404.322. The information collected on form SSA-16 helps to determine eligibility for social security disability benefits. The respondents are applicants for Social Security disability benefits.

Type of Request: Revision of an OMB-Approved Information Collection.

Number of Respondents: 1,513,677.

Frequency of Response: 1.

Average Burden Per Response: 20 minutes.

Estimated Annual Burden: 504,559 hours.

2. Worker's Compensation/Public Disability Benefit Questionnaire—0960-0247—20 CFR Subpart R—404.1720 and 404.1725, Subpart F—410.686b, Subpart O—416.1520. Section 224 of the Act provides for the reduction of disability insurance benefit (DIB) when the combination of DIB benefits and any worker's compensation (WC) and/or certain Federal, State or Local public disability benefits (PDB) exceeds 80% of the worker's predisability earnings. SSA-546 collects the information to determine whether or not the worker's receipt of WC/PDB payments will cause a reduction of DIB. The respondents are applicants for title II DIB.

Type of Request: Extension of an OMB-Approved Information Collection.

Number of Respondents: 100,000.

Frequency of Response: 1.

Average Burden Per Response: 15 minutes.

Estimated Annual Burden: 25,000 hours.

3. Medical Report on Adult with Allegation of Human Immune Deficiency Virus Infection and Medical Report on Child with Allegation of Human Immune Deficiency Virus Infection—0960-0500—20 CFR Subpart I—416.933. The information collected on forms SSA-4814-F5 and SSA-4815-F6 assist the field offices/disability determination services to make findings of presumptive disability that confirms the claimants' disease manifestations meet the severity of listing-level criteria for Human Immunodeficency Virus (HIV) infection. The respondents are medical sources of claimants for title XVI disability payments based on HIV infection.

Type of Request: Extension of an OMB-Approved Information Collection.

Number of Respondents: 59,100.

Frequency of Response: 1.

Average Burden Per Response: 10 minutes.

Estimated Annual Burden: 9,850.

II. The information collection listed below has been submitted to OMB for clearance. Your comments on the information collections would be most useful if received by OMB and SSA within 30 days from the date of this publication. You can obtain a copy of the OMB clearance package by calling the SSA Reports Clearance Officer on (410) 965-0454, or by writing to the address listed above.

1. Petition To Obtain Approval Of A Fee For Representing A Claimant Before the Social Security Administration—0960-0104—20 CFR Subpart R—404.1720, 404.1725, Subpart F—410.686b, Subpart O—416.1520 and 416.1525. A representative of a claimant for Social Security benefits must file either a fee petition or a fee agreement with SSA in order to charge a fee for representing a claimant in proceedings before SSA. The representative uses Form SSA-1560 to petition SSA for authorization to charge and collect a fee. A claimant may also use the form to agree or disagree with the requested fee amount or other information the representative provides on the form. SSA uses the information to determine a reasonable fee that a representative may charge and collect for his or her services. The respondents are claimants, their attorneys and other persons representing them.

Type of Request: Extension of an OMB-Approved Information Collection

Number of Respondents: 34,624.

Frequency of Response: 1.

Average Burden Per Response: 30 minutes.

Estimated Average Burden: 17,312 hours.

2. Coverage of Employees of State and Local Governments—0960-0425—20 CFR Subpart M. In order for State and local employees working in positions covered by Social Security to get credit for their covered wages, States and Interstate Instrumentalities are required to provide wage and deposit contribution information (for Pre-1987 periods) to SSA. The information collected is needed to post wages to individuals' Social Security earnings records and to perform audit and Trust Fund accounting functions. The respondents are State and Local Governments, or Interstate Instrumentalities, that are required to provide SSA with wage and deposit contribution information for Pre-1987 periods.

Type of Request: Extension of an OMB-Approved Information Collection.

Number of Respondents: 55.

Frequency of Response: varies.

Average Burden Per Response: varies (.5-5 hours) .

Estimated Annual Burden: 434 hours.

3. Application for Mother's or Father's Insurance Benefits—0960-0003—20 CFR Subpart D—404.339-.342, Subpart G—404.601-.603. SSA uses the information collected on the Form SSA-5-F6 or during a personal interview with a claimant to entitle an individual to mother's or father's insurance benefits. The respondents are applicants for mother's or father's insurance Benefits.

Type of Request: Extension of an OMB-Approved Information Collection

Number of Respondents: 50,000.

Frequency of Response: 1 .

Average Burden Per Response: 15 minutes.

Estimated Annual Burden: 12,500 hours.

4. Marriage Certification—0960-0009—20 CFR Subpart H—404.725. Form SSA-3-F6 is used by SSA to determine if the claimant filing for spouse's benefits has the necessary relationship to the worker for eligibility to benefits as required by section 216(h)(1) of the Social Security Act. The respondents are applicants for spouse's benefits.

Type of Request: Extension of an OMB-Approved Information Collection

Number of Respondents: 180,000.

Frequency of Response: 1.

Average Burden Per Response: 5 minutes.

Estimated Annual Burden: 15,000 hours.

5. Claimant's Work Background—0960-0300—20 CFR P—404.1565, Subpart I—416.965. SSA uses the information collected on form HA-4633 to provide claimant's their statutory right to a hearing and decision under the Social Security Act. A completed form provides an updated summary of a claimant's past relevant work and helps the Administrative Law Judge to decide whether or not the claimant is disabled. The respondents are claimants requesting hearings on entitlement to benefits based on disability under titles II and/or XVI of the Act.

Type of Request: Extension of an OMB-Approved Information Collection

Number of Respondents: 120,000.

Frequency of Response: 1.

Average Burden Per Response: 30 minutes.

Estimated Annual Burden: 60,000 hours.

6. Letter to Landlord Requesting Rental Information—0960-0454—20 CFR Subpart K—416.1130. Form SSA-L5061 is used by SSA to provide a nationally uniform vehicle for collecting information from landlords in making a rental subsidy determination in the Supplemental Security Income (SSI) Program. The information is used in deciding whether income limits are met for SSI eligibility. The respondents are landlords who provide subsidized rental arrangements to SSI applicants and recipients.

Type of Request: Extension of an OMB-Approved Information Collection Number of Respondents: 49,000.

Frequency of Response: 1.

Average Burden Per Response: 10 minutes.

Estimated Average Burden: 8,167.

7. Pay.Gov Pilot—Phase-2 Testing—0960-New; 20 CFR 401.45(b)

Background

The Government Paperwork Elimination Act of 1998 directed federal agencies to develop electronic service delivery instruments as an alternative to traditional paper-based methods. SSA plans to expand its Internet services to enable citizens to complete the application process as well as to process their requests for post-entitlement transactions online. A major requirement for filing applications and for processing transactional requests is SSA's ability to adequately authenticate the citizen. SSA cannot disclose information unless it is under the provisions of the Freedom of Information Act and the Privacy Act of 1974. Because these transactions will be taking place online, SSA must authenticate citizens by asking for information that would positively identify the requester of the information as the proper party. This information will be validated against identifying information residing in databases outside of SSA. Resultantly, SSA is planning to conduct a series of tests of the Treasury Department's “Pay.Gov” authentication engine as a possible tool for out-of-band authentication.

The Collection Pay.Gov—Phase-2

SSA plans to conduct a limited pilot using its online Direct Deposit application to test the Treasury Department's Pay.Gov authentication engine as a possible tool for the Agency to validate beneficiaries online that do not have a current Pin/Password. The respondents to this test will be SSA Title II recipients who need to be authenticated before access can be granted to SSA's Direct Deposit online service.

Type of Request: New Information Collection

Number of Respondents: 161.

Frequency of Response: 1.

Average Burden Per Response: 5 minutes.

Estimated Annual Burden: 13 hours.

8. Statement for Determining Continuing Eligibility for Supplemental Security Income Payments—Adult, Form SSA-3988-TEST; Statement for Determining Continuing Eligibility for Supplemental Security Income Payments—Child, Form SSA-3989-TEST—0960-0643; 20 CFR Subpart B—416.204.

Background

The Social Security Act mandates periodic redeterminations of the non-medical factors that relate to the SSI recipients' continuing eligibility for SSI payments. Recent SSA studies have indicated that as many as ⅔ of all scheduled redeterminations completed, with the assistance of a SSA employee, did not result in any change in circumstances that affected payment. Therefore, SSA is planning to expand the respondents and revise the test methodology of the currently approved test forms. The expansion of the test is needed to further validate whether the test redetermination process actually results in significant operational savings and a decrease in recipient inconvenience, while still timely obtaining the accurate data needed to determine continuing eligibility through the process.

The Collection

A test of forms SSA-3988-TEST and SSA-3989-TEST will be used to determine whether SSI recipients have met and continue to meet all statutory and regulatory non-medical requirements for SSI eligibility, and whether they have been and are still receiving the correct payment amount. The SSA-3988-TEST and SSA-3989-TEST are designed as self-help forms that will be mailed to recipients or to their representative payees for completion and return to SSA. The objectives of the expanded test are to determine the public's ability to understand and accurately complete the test forms. The respondents are recipients of SSI benefits or their representatives.

Type of Request: Revision of Currently Approval OMB Collection.

| Respondents | Frequency of response | Average burden per response (in minutes) | Estimated annual burden
SSA-3988-TEST | 46,500 | 1 | 20 | 15,500
SSA-3989-TEST | 8,500 | 1 | 20 | 2,833
Total |  |  |  | 18,333

Dated: August 19, 2002.
Nicholas E. Tagliareni,
Acting Reports Clearance Officer, Social Security Administration.

[FR Doc. 02-21483 Filed 8-22-02; 8:45 am]

BILLING CODE 4191-02-P